DEPARTMENT OF ENERGY

Federal Energy Regulatory Commission

[Project No. 9988]

Augusta Canal Authority; Notice of Intent To File Application for a New License

May 25, 2004.

Take notice that the following notice of intent has been filed with the Commission and is available for public inspection:

a. Type of filing: Notice of intent to file an application for new major license.

b. Project No.: 9988.

c. Date filed: May 4, 2004.

d. Submitted By: Augusta Canal Authority.

e. Name of Project: John P. King Mill Hydroelectric Project.

f. Location: On the Augusta Canal, adjacent to the Savannah River, Richmond County, Augusta, GA. The John P. King Mill Hydroelectric Project is located in the east bank of the Augusta Canal, about 6 miles downstream of the Augusta Canal diversion dam.

g. Filed Pursuant to: Section 15 of the Federal Power Act, 18 CFR 16.6.

h. Pursuant to section 16.19 of the Commission's regulations, the licensee is required to make available the information described in section 16.7 of the regulations. Such information is available at the King Mill Office, Standard Textile, 1702 Goodrich St., Augusta, GA 30904, or contact Beth Harris, Project Engineer at (864) 845-8310 ext. 100.

i. FERC Contact: Monte TerHaar, 202-502-6035, monte.terhaar@ferc.gov.

j. Expiration Date of Current License: May 31, 2009.

k. Project Description: The King Mill Project consists of: (1) A head gate and intake structure, approximately 50 feet long and 15 feet high, fitted with a trashrack with 2-inch open bar spacing; (2) a concrete lined, open headrace, approximately 200 feet long and 40 feet wide; (3) a reinforced concrete powerhouse; (4) 2 turbine/generator units with an installed capacity of 2.05 MW; (5) an open tailrace, approximately 435 feet long and 30 feet wide; and (6) appurtenant facilities. The project operates run-of-river and has an average generation of 13,000 MWh per year. There is no dam or impoundment, as approximately 881 cfs of water is withdrawn from the Augusta Canal at full capacity. Developed head is approximately 32 feet.

l. The licensee states its intent to submit an application for a new license for Project No. 9988. Pursuant to 18 CFR 16.9(b)(1) each application for a new license and any competing license applications must be filed with the Commission at least 24 months prior to the expiration of the existing license. All applications for license for this project must be filed by May 31, 2007.

m. A copy of this filing is available for review at the Commission in the Public Reference Room or may be viewed on the Commission's Web site at http://www.ferc.gov using the “eLibrary” link. Enter the docket number to access the document excluding the last three digits in the docket number field to access the document. For assistance, contact FERC Online Support at FERCOnlineSupport@ferc.gov or toll-free at 1-866-208-3676, or TTY 202-502-8659. A copy is also available for inspection and reproduction at the address in item h above.

n. Register online at http://www.ferc.gov/docs-filing/esubscription.asp to be notified via email of new filings and issuances related to this or other pending projects. For assistance, contact FERC Online Support as shown in the paragraph above.

Magalie R. Salas,
Secretary.

[FR Doc. E4-1234 Filed 5-28-04; 8:45 am]

BILLING CODE 6717-01-P